FEDERAL EMERGENCY MANAGEMENT AGENCY

44 CFR Part 67

[Docket No. FEMA-D-7526]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Acting Executive Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. * Elevation in feet (NGVD) • Elevation in feet (NAVD): Existing | #Depth in feet above ground. * Elevation in feet (NGVD) • Elevation in feet (NAVD): Modified | Communities affected
ILLINOIS
Cook County (Unincorporated Areas).
Addison Creek | Approximately 360 feet upstream of 21st Street | *620 | *621 | Village of Bellwood, Village of Broadview, Cook County.
| Approximately 180 feet upstream of Tri-State Tollway | None | *656 | (Unincorporated Areas), Village of Hillside, Village of Maywood, Village of Melrose Park, City of Northlake, Village of Stone Park, Village of Westchester.
Village of Broadview
Maps available for inspection at the Broadview Village Hall, 2350 South 25th Avenue, Broadview, Illinois.
Send comments to The Honorable Henry Vicenik, Mayor of the Village of Broadview, 2350 South 25th Avenue, Broadview, Illinois 60155.
Village of Hillside
Maps available for inspection at the Hillside Department of Public Works and Building Services, 4151 May Street, Hillside, Illinois.
Send comments to The Honorable Joseph T. Tamburino, Mayor of the Village of Hillside, 30 North Wolf Road, Hillside, Illinois 60162.
Village of Westchester
Maps available for inspection at the Westchester Village Hall, 10300 Roosevelt Road, Westchester, Illinois.
Send comments to Mr. John Sinde, Westchester Village President, 10300 Roosevelt Road, Westchester, Illinois 60154.
Unincorporated Areas of Cook County
Maps available for inspection at the Cook County Department of Building and Zoning, 69 West Washington Street, Chicago, Illinois.
Send comments to Mr. John H. Stroger, Jr., 118 North Clark Street, Room 537, Chicago, Illinois 60602.
City of Northlake
Maps available for inspection at the Northlake City Hall, Building Department, 55 East North Avenue, Northlake, Illinois.
Send comments to The Honorable Jeffrey Sherwin, Mayor of the City of Northlake, 55 East North Avenue, Northlake, Illinois 60164.
Village of Maywood
Maps available for inspection at the Maywood Village Hall, 40 Madison Street, Maywood, Illinois.
Send comments to The Honorable Ralph Conner, Mayor of the Village of Maywood, 40 Madison Street, Maywood, Illinois 60153.
Village of Bellwood
Maps available for inspection at the Bellwood Village Hall, Building Department, 3200 Washington Boulevard, Bellwood, Illinois.
Send comments to The Honorable Frank Pasquale, Mayor of the Village of Bellwood, 3200 Washington Boulevard, Bellwood, Illinois 60104.
Village of Melrose Park
Maps available for inspection at the Melrose Park Village Hall, 1000 North 25th Avenue, Melrose Park, Illinois.
Send comments to The Honorable Ronald M. Serpico, Mayor of the Village of Melrose Park, 1000 North 25th Avenue, Melrose Park, Illinois 60160.
Village of Stone Park
Maps available for inspection at the Stone Park Village Hall, 1629 North Mannheim Road, Stone Park, Illinois.
Send comments to The Honorable Beniamino Mazzulla, Mayor of the Village of Stone Park, 1629 North Mannheim Road, Stone Park, Illinois 60165.
NORTH CAROLINA
Onslow County (Unincorporated Areas)
Atlantic Ocean | At Intracoastal Waterway and Salliers Bay confluence | • 7 | • 8 | Onslow County (Unincorporated Areas).
| Approximately 2,000 feet east of River Drive and New River Inlet Road intersection | • 15 | • 18 |
Bachelor's Delight Swamp | At the confluence with New River | None | • 9 | Onslow County (Unincorporated Areas).
| Approximately 0.5 mile upstream of the confluence of Bachelor's Delight Swamp Tributary 2 | None | • 29
Bachelor's Delight Swamp Tributary | Approximately 0.5 mile upstream of the confluence with Bachelor's Delight Swamp | None | • 30 | Onslow County (Unincorporated Areas).
| Approximately 1,150 feet upstream of Timothy Road | None | • 34 |
Bachelor's Delight Swamp Tributary 2 | At the confluence with Bachelor's Delight Swamp | None | • 21 | Onslow County (Unincorporated Areas).
| Approximately 1,400 feet upstream of the confluence with Bachelor's Delight Swamp | None | • 26 |
Bear Creek | Approximately 150 feet downstream of NC 172 | None | • 9 | Onslow County (Unincorporated Areas).
| Approximately 1.4 miles upstream of NC 172 | None | • 31 |
Bearhead Creek | Approximately 0.8 mile upstream of the confluence with Wallace Creek | • 2 | • 3 | Onslow County (Unincorporated Areas), City of Jacksonville.
| Approximately 1.3 miles upstream of Holcomb Boulevard | None | • 21 |
Bell Swamp | Approximately 800 feet upstream of NC 172 | None | • 10 | Onslow County (Unincorporated Areas).
| Approximately 0.5 mile upstream of Hubert Boulevard | None | • 32 |
Blue Creek | Approximately 1.4 miles upstream of Richlands Highway | None | • 18 | Onslow County (Unincorporated Areas).
| Approximately 300 feet upstream of Pony Farm Road | None | • 44 |
Brick Kiln Branch (at White Oak River) | At the confluence with White Oak River | None | • 11 | Onslow County (Unincorporated Areas).
| Approximately 0.5 mile upstream of the confluence with White Oak River | None | • 17 |
Cartwheel Branch | At the confluence with Holland Mill Creek | None | • 8 | Onslow County (Unincorporated Areas).
| Approximately 125 feet upstream of Swansboro Loop Road | None | • 10 |
Chinkapin Branch | At the confluence with White Oak River | None | • 38 | Onslow County (Unincorporated Areas).
| Approximately 1.7 miles upstream of confluence with White Oak River | None | • 42 |
Cogdels Creek | Approximately 100 feet upstream of the confluence with New River | • 2 | • 3 | Onslow County (Unincorporated Areas).
| Approximately 0.5 mile upstream of Sneads Ferry Road | None | • 24 |
Cowford Branch | At the confluence with New River | None | • 39 | Onslow County (Unincorporated Areas).
| Approximately 0.56 mile upstream of State Route 24 | None | • 51 |
Cowhead Creek | Approximately 0.6 mile upstream of the confluence with Frenchs Creek | • 2 | • 3 | Onslow County (Unincorporated Areas), City of Jacksonville.
| Sneads Ferry Road | None | • 35 |
Cowhorn Swamp | Approximately 50 feet upstream of the confluence with Jenkins Swamp | • 31 | • 32 | Onslow County (Unincorporated Areas).
| Approximately 0.6 mile upstream of Hoffmann Forest Road | None | • 52 |
Deep Run | At the confluence with Southwest Creek | None | • 27 | Onslow County (Unincorporated Areas).
| Approximately 0.8 mile upstream of Ben Williams Road | None | • 51 |
Freemans Creek | At the confluence with White Oak River | None | • 9 | Onslow County (Unincorporated Areas).
| Approximately 0.7 mile upstream of the confluence with White Oak River | None | • 9 |
Frenchs Creek | At the confluence of Jumping Run | • 2 | • 3 | Onslow County (Unincorporated Areas), City of Jacksonville.
| Approximately 0.6 mile upstream of Marine Road | None | • 16 |
Gibson Branch | At the confluence with White Oak River | None | • 24 | Onslow County (Unincorporated Areas).
| Approximately 1.1 miles upstream of White Oak River Road | None | • 41 |
Grants Creek | At the confluence with White Oak River | None | • 9 | Onslow County (Unincorporated Areas).
| Approximately 700 feet upstream of the confluence of Halls Branch (Cummins Creek) | None | • 14 |
Half Moon Creek | At the confluence with New River | None | • 9 | Onslow County (Unincorporated Area), City of Jacksonville.
| Approximately 1.3 miles upstream of Ramsey Road | None | • 44 |
Half Moon Creek Tributary 1 | At the confluence with Half Moon Creek | None | • 24 | Onslow County (Unincorporated Areas).
| Approximately 1,830 feet upstream of the confluence with Half Moon Creek | None | • 28 |
Hargetts Creek | Approximately 1.4 miles upstream of the confluence with White Oak River | None | • 9 | Onslow County (Unincorporated Areas).
| Approximately 1,100 feet downstream of Sloan Farm Road | None | • 15 |
Harris Creek | At the confluence with Southwest Creek | None | • 24 | Onslow County (Unincorporated Areas).
| Approximately 1,900 feet upstream of Harris Creek Road | None | • 42 |
Harris Creek Tributary 1 | At the confluence with Harris Creek | None | • 32 | Onslow County (Unincorporated Areas).
| Approximately 500 feet upstream of Burgaw Highway | None | • 39 |
Haws Run | At the confluence with Southwest Creek | None | • 18 | Onslow County (Unincorporated Areas).
| Approximately 1.0 mile upstream of Haws Run Road | None | • 40 |
Haws Run Tributary 1 | At the confluence with Haws Run | None | • 23 | Onslow County (Unincorporated Areas).
| Approximately 1,000 feet upstream of the confluence with Haws Run | None | • 23 |
Haws Run Tributary 2 | At the confluence with Haws Run | None | • 27 | Onslow County Unincorporated Areas).
| Approximately 200 feet upstream of Harris Creek Road | None | • 33 |
Hicks Run | At the confluence with Southwest Creek | • 2 | • 6 | Onslow County (Unincorporated Areas), City of Jacksonville.
| Approximately 0.9 mile upstream of High Hill Road | None | • 46 |
Holland Mill Creek | Approximately 1.9 miles upstream of the confluence with White Oak river | None | • 8 | Onslow County (Unincorporated Areas).
| Approximately 1,250 feet upstream of Belgrade Swansboro Road | None | • 21 |
Horse Swamp | At the confluence with Little Northeast Creek | None | • 14 | Onslow County (Unincorporated Areas).
| Approximately 1.4 miles upstream of Rocky Run Road | None | • 36 |
Jenkins Swamp | At confluence with New River | • 25 | • 24 | Onslow County (Unincorporated Areas).
| Approximately 0.4 miles upstream of SR 1003 | None | • 55 |
Jumping Run | At the confluence with French Creek | • 2 | • 3 | Onslow County (Unincorporated Areas), City of Jacksonville.
| Approximately 1.2 miles upstream of Sneads Ferry Road | None | • 26 |
Little Northeast Creek | At the confluence with Northeast Creek | None | • 2 | Onslow County (Unincorporated Areas), City of Jacksonville.
| Approximately 3.0 miles upstream of the confluence with Horse Swamp | None | • 28 |
Mill Run | At the confluence with Southwest Creek | • 2 | • 3 | Onslow County (Unincorporated Areas).
| Approximately 2.3 miles upstreat of Verona Road | None | • 37 |
Mill Swamp | At the confluence with New River | • 25 | • 24 | Onslow County (Unincorporated Areas), Twn of Richlands.
| Approximately 1,000 feet upstream of North Wilmington Street | None | • 35 |
New River | Approximately 0.4 mile upstream of the confluence with Blue Creek | None | • 7 | Onslow County (Unincorporated Areas), City of Jacksonville.
| Approximately 0.5 mile upstream of State Route 1235 | None | • 73 |
New River Tributary | At the confluence with New River | None | • 50 | Onslow County (Unincorporated Areas).
| Approximately 50 feet upstream of Al Taylor Road | None | • 74 |
New River Tributary 2 | At the confluence with New River | None | • 9 | Onslow County (Unincorporated Areas).
| Approximately 1.1 miles upstream of Richlands Highway | None | • 45 |
New River Tributary 3 | At the confluence with New River Tributary 2 | None | • 16 | Onslow County (Unincorporated Areas).
| Approximately 1.0 mile upstream of the confluence with New River Tributary 2 | None | • 33 |
New River Tributary 4 | At the confluence with New River | None | • 19 | Onslow County (Unincorporated Areas).
| Approximately 150 feet upstream of Richlands Highway | None | • 44 |
New River Tributary 5 | At the confluence with New River | None | • 22 | Onslow County (Unincorporated Areas).
| Approximately 0.4 mile upstream of Duffy Field Road | None | • 42 |
New River Tributary 6 | At the confluence with New River Tributary 5 | None | • 25 | Onslow County (Unincorporated Areas).
| Approximately 1,700 feet upstream of the confluence with New River Tributary 5 | None | • 27 |
New River Tributary 7 | At the confluence with New River Tributary 5 | None | • 26 | Onslow County (Unincorporated Areas).
| Approximately 1.7 miles upstream of the confluence with New River Tributary 5 | None | • 44 |
Northeast Creek | At the confluence of Little Northeast Creek | None | • 2 | Onslow County (Unincorporated Areas), City of Jacksonville.
| Approximately 0.6 mile upstream of North Marine Boulevard | None | • 27 |
Northeast Creek Tributary | At the confluence with Northeast Creek | None | • 9 | City of Jacksonville.
| Approximately 0.4 mile upstream of the confluence with Northeast Creek | None | • 10 |
Northeast Creek Tributary 2 | At the confluence with Northeast Creek | None | • 7 | City of Jacksonville.
| Approximately 0.6 mile upstream of the confluence with Northeast Creek | None | • 9 |
North Branch at Lauradale Subdivision | At confluence with New River | None | • 9 | Onslow County (Unincorporated Areas).
| Approximately 0.7 mile upstream of confluence with New River | None | • 9 |
Parrot Swamp | Approximately 1,850 feet upstream of Queens Creek Road | • 9 | • 10 | Onslow County (Unincorporated Areas).
| Approximately 1.0 mile upstream of Queens Creek Road | None | • 20 |
Poplar Creek | At the confluence Little Northeast Creek | None | • 3 | Onslow County (Unincorporated Areas), City of Jacksonville.
| Approximately 0.4 mile upstream of Water Road | None | • 26 |
Queen Creek | Approximately 1.2 miles upstream of NC 24 | None | • 10 | Onslow County (Unincorporated Areas).
| Approximately 0.5 mile upstream of Camp Lejeune Railroad | None | • 25 |
Rocky Run | At confluence with Little Northeast Creek | None | • 8 | Onslow County (Unincorporated Areas).
| Approximately 1,400 feet upstream of confluence with Little Northeast Creek | None | • 13 |
South Branch at Lauradale Subdivision | At the confluence with North Branch at Lauradale Subdivision | None | • 9 | Onslow County (Unincorporated Areas), City of Jacksonville.
| Approximately 1.0 mile upstream of the confluence with North Branch at Lauradale Subdivision | None | • 36 |
Southwest Creek | Approximately 2.5 miles upstream of the confluence with New River | • 2 | • 3 | Onslow County (Unincorporated Areas), City of Jacksonville.
| Approximately 0.6 mile upstream of Five Mile Road | None | • 65 |
Southwest Creek Tributary 2 | At the confluence with Southwest Creek | None | • 46 | Onslow County (Unincorporated Areas).
| Approximately 1.2 miles upstream of Red Lane | None | • 56 |
Southwest Creek Tributary 3 | At the confluence with Southwest Creek | None | • 54 | Onslow County (Unincorporated Areas).
| Approximately 1.7 miles upstream of the confluence with Southwest Creek | None | • 68 |
Southwest Creek Tributary 4 | At the confluence with Southwest Creek Tributary 3 | None | • 61 | Onslow County (Unincorporated Areas).
| Approximately 1,700 feet upstream of Five Mile Road | None | • 70 |
Starkys Creek | At confluence with White Oak River | None | • 10 | Onslow County (Unincorporated Areas).
| Approximately 1,750 feet upstream of I-17 | None | • 44 |
Stump Sound | At the intersection of Chadwick Acres Road and Carroll Street | • 6 | • 8 | Onslow County (Unincorporated Areas).
| Approximately 1,000 feet south of the intersection of Harbor Point Road and Ocracoke Road | • 7 | • 11 |
Wallace Creek | At the upstream side of Norfolk Southern Railway | • 2 | •3 | Onslow County (Unincorporated Areas).
| Approximately 4.2 miles upstream of Holcomb Boulevard | None | • 22 |
Wallace Creek | At the confluence with Wallace Creek | None | • 14 | Onslow County (Unincorporated Areas).
Tributary 1 | Approximately 500 feet downstream of Lejeune Boulevard | None | • ;27 |
Webb Creek | At the confluence with White Oak River | None | • 9 | Onslow County (Unincorporated Areas).
| Approximately 1,200 feet downstream of Parkertown Road | None | • 20 |
White Oak River | Approximately 500 feet upstream of the confluence of Webb Creek | None | • 9 | Onslow County (Unincorporated Areas).
| At the confluence of Chinkapin Branch | None | • 38 |
Wolf Swamp | At North Marine Boulevard | None | • 22 | Onslow County (Unincorporated Areas).
| Approximately 0.9 mile upstream of Ramsey Road | None | • 42 |
Onslow County (Unincorporated Areas).
Maps available for inspection at the Onslow County Floodplain Administration, 604 College Street, Jacksonville, North Carolina.
Send comments to Mr. Ron Lewis, Onslow County Manager, 118 Old Bridge Street, Jacksonville, North Carolina 28540.
City of Jacksonville
Maps available for inspection at the Jacksonville City Hall, 211 Johnson Boulevard, Jacksonville, North Carolina.
Send comments to The Honorable George Jones, Mayor of the City of Jacksonville, P.O. Box 128, Jacksonville, North Carolina 28541.
Town of Richlands
Maps available for inspection at the Richlands Town Hall, 106 North Wilmington Street, Jacksonville, North Carolina.
Send comments to Mr. Greg Whitehead, Town of Richlands Administrator, P.O. Box 245, Richlands, North Carolina 28574.
PENNSYLVANIA
(Westmoreland County, Borough of Scottdale, Township of Mt. Pleasant, Township of East Huntingdon)
Jacobs Creek | At State Route 819 | • 1,021 | • 1,020 | Township of East Huntingdon.
| A point approximately 0.82 mile upstream of State Route 982 | • 1,286 | • 1,288 | Borough of Scottdale, Township of Mt. Pleasant.
Stauffer Run | Approximately 340 feet upsteam of confluence with Jacobs Creek (Lower Reach) | • 1,036 | • 1,031 | Borough of Scottdale.
| Approximately 1,100 feet upstream of State Route 819 | • 1,038 | • 1,040 |
Laurel Run | At the confluence with Jacobs Creek | • 1,214 | • 1,219 | Township of Mt. Pleasant.
| Approximately 1,530 feet upstream of Jacobs Creek | • 1,236 | • 1,244 |
Shupe Run | At the confluence with Jacobs Creek | None | • 1,040 | Township of East Huntingdon.
| Approximately 42 feet downstream of the CONRAIL bridge | • 1,045 | • 1,046 | Township of Mt. Pleasant.
Borough of Scottdale
Maps available for inspection at the Scottdale Borough Municipal Building, 10 Mount Pleasant Road, Scottdale, Pennsylvania.
Send comments to Mr. Barry D. Whoric, Scottdale Borough Manager, 10 Mount Pleasant Road, Scottdale, Pennsylvania 15683.
Township of Mt. Pleasant.
Maps available for inspection at the Mt. Pleasant Township Building, Poker Road, Mammoth, Pennsylvania.
Send comments to Mr. Don Scott, Mt. Pleasant Township Supervisor, P.O. Box 158, Mammoth, Pennsylvania 15664.
Township of East Huntingdon
Maps available for inspection at the East Huntingdon Township Building, Route 981, Alverton, Pennsylvania.
Send comments to Mr. Joe Suter, Chairman of the Township of East Huntingdon Board of Supervisors, P.O. Box 9, Alverton, Pennsylvania 15612.

(Catalog of Federal Domestic Assistance No. 83.100, “Flood Insurance.”)

Dated: March 5, 2002.
Robert F. Shea,
Acting Administrator, Federal Insurance and Mitigation Administration.

[FR Doc. 02-5837 Filed 3-11-02; 8:45 am]

BILLING CODE 6718-04-P